DEPARTMENT OF HEALTH AND HUMAN SERVICES

Administration for Community Living

Intent To Award One Single-Source Supplement for Current Senior Medicare Patrol National Resource Center (SMPNRC) Grantee

ACTION: Announcing the intent to award one single-source supplement for current Senior Medicare Patrol National Resource Center (SMPNRC) grantee.

SUMMARY: The Administration for Community Living (ACL) announces the intent to award one administrative supplement in the form of cooperative agreement to existing SMP National Resource Center (SMPNRC) grantee to support the expansion and enhancement of virtual capacity for the SMP program. This effort will benefit the SMPNRC, and the 54 SMP project grantees which are located in each state, the District of Columbia, Guam, Puerto Rico, and the U.S. Virgin Islands. The purpose of the existing SMPNRC grantee's work is to support SMP projects nationally in empowering and assisting Medicare beneficiaries, their families, and caregivers to prevent, detect, and report health care fraud, errors, and abuse through outreach, counseling, and education. As a result of the COVID-19 pandemic and related travel and congregation limitations and public health concerns, it has been identified that focus on expansion of virtual capacity is crucial at this time. The administrative supplement to the SMNPRC for FY 2021 will be distributed according to identified need and will total $405,312.

FOR FURTHER INFORMATION CONTACT: For further information or comments regarding this program supplement, contact Marissa Whitehouse, U.S. Department of Health and Human Services, Administration for Community Living, Center for Integrated Programs, Office of Healthcare Information and Counseling; telephone (202) 795-7425; email Marissa.Whitehouse@acl.hhs.gov.

SUPPLEMENTARY INFORMATION: Program Name: Senior Medicare Patrol National Resource Center.

Recipient: One current grantee.

Current grantee | FY21 ACL recommended supplement amount
Northeast Iowa Area Agency on Aging | $405,312.00

Period of Performance: The award will be issued for the Fiscal Year 2021 project period of September 1, 2021 through August 31, 2022.

Total Award Amount: $405,312 total in FY 2021.

Award Type: Cooperative Agreement.

Statutory Authority: The statutory authority is contained in the HIPAA of 1996 (Pub. L. 104-191).

Basis for Award: Upon request for access to FY 2021 HCFAC Wedge funding, the Department granted approval for ACL's Office of Healthcare Information & Counseling to access $2 million in additional, one-time funding. This funding is intended to expand and enhance the virtual capacity of the existing SMP program and will be used in a number of ways to support the virtual expansion and capabilities of the SMP program efforts nationally. As a result of the COVID-19 pandemic and related travel and congregation limitations and public health concerns, it has been identified that focus on expansion of virtual capacity is crucial at this time.

The current SMPNRC is funded to support the SMP project mission for the period of September 1, 2020 through August 31, 2025. Much work has already been completed and further tasks are currently being accomplished. It would be unnecessarily time consuming and disruptive to the SMP program, and the beneficiaries being served, for ACL to establish a new grantee to focus on this intended virtual expansion of the program since the intent of this funding is to expand the current program's efforts. This administrative supplement will allow the SMPNRC grantee to expand their current capacity to work virtually at the national level to empower Medicare beneficiaries, their families, and caregivers to prevent, detect, and report health care fraud, errors, and abuse through outreach, counseling, and education. The existing SMPNRC is uniquely placed to continue and expand this work. Efforts supported through this funding will include development of marketing and outreach materials, targeted SMP project grantee resources, and continued progress toward a new public-facing program-specific phone application.

The SMPNRC was created in 2003 to provide training, support, and technical assistance to SMP projects nationwide. The goal of this Center is to provide professional expertise, training, and technical support to maximize the effectiveness of the SMP projects in Medicare fraud prevention outreach and education. The SMPNRC ensures a fully consolidated, national approach to reaching Medicare beneficiaries with the SMP message and forges national visibility for the program. The SMPNRC provides technical assistance through online training (webinars), workshops, and the SMP networking opportunities. The current grantee is closely monitored and is successfully meeting all programmatic goals under the existing grant.

The current grantee is closely monitored and is successfully meeting all programmatic goals under the current SMPNRC grant.

Dated: July 12, 2021.
Alison Barkoff,
Acting Administrator and Assistant Secretary for Aging, Administration for Community Living.

[FR Doc. 2021-15023 Filed 7-14-21; 8:45 am]

BILLING CODE 4154-01-P